DEPARTMENT OF TRANSPORTATION

Office of the Secretary

Notice of Funding Opportunity for the Department of Transportation's Nationally Significant Freight and Highway Projects (INFRA Grants) for Fiscal Year 2020; Infrastructure for Rebuilding America (INFRA) Program FY 2020 Notice of Funding Opportunity

AGENCY: Office of the Secretary of Transportation, U.S. Department of Transportation (USDOT).

ACTION: Notice of funding opportunity.

SUMMARY: The Nationally Significant Freight and Highway Projects (NSFHP) program provides Federal financial assistance to highway and freight projects of national or regional significance. In 2017, the Department renamed this program the Infrastructure For Rebuilding America program (INFRA). This notice solicits applications for awards under the program's fiscal year (FY) 2020 funding, subject to the availability of appropriated funds.

DATES: Applications must be submitted by 11:59 p.m. EST on February 25, 2020. The Grants.gov “Apply” function will open by January 15, 2020.

ADDRESSES: Applications must be submitted through www.Grants.gov. Only applicants who comply with all submission requirements described in this notice and submit applications through www.Grants.gov will be eligible for award.

FOR FURTHER INFORMATION CONTACT: For further information regarding this notice, please contact the Office of the Secretary via email at INFRAgrants@dot.gov, or call Paul Baumer at (202) 366-1092. A TDD is available for individuals who are deaf or hard of hearing at 202-366-3993. In addition, up to the application deadline, the Department will post answers to common questions and requests for clarifications on USDOT's website at https://www.transportation.gov/buildamerica/INFRAgrants.

SUPPLEMENTARY INFORMATION: The organization of this notice is based on an outline set in 2 CFR part 200 to ensure consistency across Federal financial assistance programs. However, that format is designed for locating specific information, not for linear reading. For readers seeking to familiarize themselves with the INFRA program, the Department encourages them to begin with Section A (Program Description), which describes the Department's goals for the INFRA program and purpose in making awards, and Section E (Application Review Information), which describes how the Department will select among eligible applications. Those two sections will provide appropriate context for the remainder of the notice: Section B (Federal Award Information) describes information about the size and nature of awards; Section C (Eligibility Information) describes eligibility requirements for applicants and projects; Section D (Application and Submission Information) describes in detail how to apply for an award; Section F (Federal Award Administration Information) describes administrative requirements that will accompany awards; and Sections G (Federal Awarding Agency Contacts) and H (Other Information) provide additional administrative information.

Table of Contents

A. Program Description

1. Overview

2. Key Program Objectives

3. Changes From the FY 2019 NOFO

B. Federal Award Information

1. Amount Available

2. Restrictions on Award Portfolio

C. Eligibility Information

1. Eligible Applicants

2. Cost Sharing or Matching

3. Other

D. Application and Submission Information

1. Address

2. Content and Form of Application

3. Unique Entity Identifier and System for Award Management (SAM)

4. Submission Dates and Timelines

E. Application Review Information

1. Criteria

2. Review and Selection Process

3. Additional Information

F. Federal Award Administration Information

1. Federal Award Notices

2. Administrative and National Policy Requirements

3. Reporting

G. Federal Awarding Agency Contacts

H. Other Information

1. Protection of Confidential Business Information

2. Publication of Application Information

A. Program Description

1. Overview

The INFRA program provides Federal financial assistance to highway and freight projects of national or regional significance. To maximize the value of FY 2020 INFRA funds for all Americans, the Department is focusing the competition on transportation infrastructure projects that support four key objectives, each of which is discussed in greater detail in section A.2:

(1) Supporting economic vitality at the national and regional level;

(2) Leveraging Federal funding to attract non-Federal sources of infrastructure investment;

(3) Deploying innovative technology, encouraging innovative approaches to project delivery, and incentivizing the use of innovative financing; and

(4) Holding grant recipients accountable for their performance.

This notice's focus on the four key objectives does not supplant the Department's focus on safety as our top priority. The Department is committed to reducing fatalities and serious injuries on the surface transportation system. To reinforce the Department's safety priority, the USDOT will require projects that receive INFRA awards to consider and effectively respond to data-driven transportation safety concerns. Section F.2.a describes related requirements that the Department will impose on each INFRA project. These requirements focus on performing detailed, data-driven safety analyses and incorporating project elements that respond to State-specific safety priority areas.

2. Key Program Objectives

This section of the notice describes the four key program objectives that the Department intends to advance with FY 2020 INFRA funds. These four objectives are reflected in later portions of the notice, including section E.1, which describes how the Department will evaluate applications to advance these objectives, and section D.2.b, which describes how applicants should address the four objectives in their applications.

a. Key Program Objective #1: Supporting Economic Vitality

A strong transportation network is critical to the functioning and growth of the American economy. The nation's industry depends on the transportation network to move the goods that it produces, and facilitate the movements of the workers who are responsible for that production. When the nation's highways, railways, and ports function well, that infrastructure connects people to jobs, increases the efficiency of delivering goods and thereby cuts the costs of doing business, reduces the burden of commuting, and improves overall well-being.

Rural transportation networks play a vital role in supporting our national economic vitality. Addressing the deteriorating conditions and elevated fatality rates on our rural transportation infrastructure is of critical interest to the Department, as rural transportation networks face unique challenges in safety, infrastructure condition, and passenger and freight usage. Consistent with the Rural Opportunities to Use Transportation for Economic Success (ROUTES) Initiative, the Department will consider how the project will address the challenges faced by rural areas.

b. Key Program Objective #2: Leveraging of Federal Funding

The Department is committed to supporting the President's call for more infrastructure investment. That goal will not be achieved through Federal investment alone, but rather requires States, local governments, and the private sector to maximize their own contributions.

By emphasizing leveraging of Federal funding, the Department expects to expand the total resources being used to build and restore infrastructure, rather than have Federal dollars merely displace or substitute for State, local, and private funds.

c. Key Program Objective #3: Innovation

The Department seeks to use the INFRA program to encourage innovation in three areas: (1) The deployment of innovative technology and expanded access to broadband; (2) use of innovative permitting, contracting, and other project delivery practices; and (3) innovative financing. This objective supports the Department's strategic goal of innovation, with the potential for significantly enhancing the safety, efficiency, and performance of the transportation network. The USDOT anticipates INFRA projects will support the integration of new technology and facilitate increased public and private sector collaboration. In section E.1.a (Criterion #3), the Department provides many examples of innovative technologies, practices, and financing. It encourages applicants to identify those that are suitable for their projects and local constraints.

d. Key Program Objective #4: Performance and Accountability

The Department seeks to increase project sponsor accountability and performance by evaluating each INFRA applicant's plans to address the full lifecycle costs of their project and willingness to condition award funding on achieving specific Departmental goals.

To maximize public benefits from INFRA funds and promote local activity that will provide benefits beyond the INFRA-funded projects, the Department seeks projects that allow it to condition funding on specific, measurable outcomes. For appropriate projects, the Department may use one or more of the following types of events to trigger availability of some or all INFRA funds: (1) Reaching construction and project completion in a timely manner; or (2) achieving transportation performance objectives that support economic vitality or improve safety.

The Department does not intend to impose these conditions on unwilling or uninterested INFRA recipients, nor does it intend to limit the types of projects that should consider accountability mechanisms. Instead, in section E.1.d (Criterion #4), the Department provides a framework for accountability measures and encourages applicants to voluntarily identify those that are most appropriate for their projects and local constraints.

3. Changes From the FY 2019 NOFO

The FY 2020 INFRA Notice provides additional information explaining how the Department will evaluate whether applications meet the statutory Large Project Requirements described in Section C.3.d. Additionally, the Department has added, as a factor in the economic vitality evaluation (Sections A.2.a., D.2.b.v, and E.1.a), whether a project primarily serves freight and goods movement. Finally, consistent with the ROUTES Initiative, the Department will consider how projects address challenges in rural areas.

Applicants who are planning to re-apply using materials prepared for prior competitions should ensure that their FY 2020 application fully addresses the criteria and considerations described in this Notice and that all relevant information is up to date.

B. Federal Award Information

1. Amount Available

The FAST Act authorizes the INFRA program at $4.5 billion for fiscal years (FY) 2016 through 2020, including $1 billion ¹ for FY 2020, to be awarded by USDOT on a competitive basis to projects of national or regional significance that meet statutory requirements. This notice solicits applications for the $906 million in FY 2020 INFRA funds available for awards. In addition to the FY 2020 INFRA funds, amounts from prior year authorizations, presently estimated at up to $150 million, may be made available and awarded under this solicitation. Any award under this notice will be subject to the availability of appropriated funds.

¹ Funds are subject to the overall Federal-aid highway obligation limitation, and funds in excess of the obligation limitation provided to the program are distributed to the States. While $1 billion is authorized for FY 2020, $906 million is available for award. For additional information see FAST Act § 1102 (f) and the Transportation, Housing and Urban Development, and Related Agencies Appropriations Act, 2016, Public Law 114-113, div. L § 120.

2. Restrictions on Award Portfolio

The Department will make awards under the INFRA program to both large and small projects (refer to section C.3.ii.for a definition of large and small projects). For a large project, the FAST Act specifies that an INFRA grant must be at least $25 million. For a small project, including both construction awards and project development awards, the grant must be at least $5 million. For each fiscal year of INFRA funds, 10 percent of available funds are reserved for small projects, and 90 percent of funds are reserved for large projects.

The FAST Act specifies that not more than $500 million in aggregate of the $4.5 billion authorized for INFRA grants over fiscal years 2016 to 2020 may be used for grants to freight rail, water (including ports), or other freight intermodal projects that make significant improvements to freight movement on the National Highway Freight Network. After accounting for FY 2016-2019 INFRA selections, as much as $158 million may be available within this constraint. Only the non-highway portion(s) of multimodal projects count toward this limit. Grade crossing and grade separation projects do not count toward the limit for freight rail, port, and intermodal projects. The Department's awards may not exhaust this limitation.

The FAST Act directs that at least 25 percent of the funds provided for INFRA grants must be used for projects located in rural areas, as defined in Section C.3.e. The Department may elect to go above that threshold. The USDOT must consider geographic diversity among grant recipients, including the need for a balance in addressing the needs of urban and rural areas.

C. Eligibility Information

To be selected for an INFRA grant, an applicant must be an Eligible Applicant and the project must be an Eligible Project that meets the Minimum Project Size Requirement.

1. Eligible Applicants

Eligible applicants for INFRA grants are: (1) A State or group of States; (2) a metropolitan planning organization that serves an Urbanized Area (as defined by the Bureau of the Census) with a population of more than 200,000 individuals; (3) a unit of local government or group of local governments; (4) a political subdivision of a State or local government; (5) a special purpose district or public authority with a transportation function, including a port authority; (6) a Federal land management agency that applies jointly with a State or group of States; (7) a tribal government or a consortium of tribal governments; or (8) a multi-State or multijurisdictional group of public entities.

Multiple States or jurisdictions that submit a joint application should identify a lead applicant as the primary point of contact. Joint applications should include a description of the roles and responsibilities of each applicant and should be signed by each applicant. The applicant that will be responsible for financial administration of the project must be an eligible applicant.

2. Cost Sharing or Matching

This section describes the statutory cost share requirements for an INFRA award. Cost share will also be evaluated according to the “Leveraging of Federal Funding” evaluation criterion described in Section E.1.a (Criterion #2). That section clarifies that the Department seeks applications for projects that exceed the minimum non-Federal cost share requirement described here.

INFRA grants may be used for up to 60 percent of future eligible project costs. Other Federal assistance may satisfy the non-Federal share requirement for an INFRA grant, but total Federal assistance for a project receiving an INFRA grant may not exceed 80 percent of future eligible project costs. Non-Federal sources include State funds originating from programs funded by State revenue, local funds originating from State or local revenue-funded programs, private funds or other funding sources of non-Federal origins. If a Federal land management agency applies jointly with a State or group of States, and that agency carries out the project, then Federal funds that were not made available under titles 23 or 49 of the United States Code may be used for the non-Federal share. Unless otherwise authorized by statute, local cost-share may not be counted as non-Federal share for both the INFRA and another Federal program. For any project, the Department cannot consider previously incurred costs or previously expended or encumbered funds towards the matching requirement. Matching funds are subject to the same Federal requirements described in Section F.2.b as awarded funds.

For the purpose of evaluating eligibility under the statutory limit on total Federal assistance, funds from the Transportation Infrastructure Finance and Innovation Act (TIFIA) and Railroad Rehabilitation & Improvement Financing (RRIF) credit assistance programs are considered Federal assistance and, combined with other Federal assistance, may not exceed 80 percent of the future eligible project costs.

3. Other

a. Eligible Projects

Eligible projects for INFRA grants are: Highway freight projects carried out on the National Highway Freight Network (23 U.S.C. 167); highway or bridge projects carried out on the National Highway System (NHS), including projects that add capacity on the Interstate System to improve mobility or projects in a national scenic area; railway-highway grade crossing or grade separation projects; or a freight project that is (1) an intermodal or rail project, or (2) within the boundaries of a public or private freight rail, water (including ports), or intermodal facility. A project within the boundaries of a freight rail, water (including ports), or intermodal facility must be a surface transportation infrastructure project necessary to facilitate direct intermodal interchange, transfer, or access into or out of the facility and must significantly improve freight movement on the National Highway Freight Network. Improving freight movement on the National Highway Freight Network may include shifting freight transportation to other modes, thereby reducing congestion and bottlenecks on the National Highway Freight Network. For a freight project within the boundaries of a freight rail, water (including ports), or intermodal facility, Federal funds can only support project elements that provide public benefits.

b. Eligible Project Costs

INFRA grants may be used for the construction, reconstruction, rehabilitation, acquisition of property (including land related to the project and improvements to the land), environmental mitigation, construction contingencies, equipment acquisition, and operational improvements directly related to system performance. Statutorily, INFRA grants may also fund development phase activities, including planning, feasibility analysis, revenue forecasting, environmental review, preliminary engineering, design, and other preconstruction activities, provided the project meets statutory requirements. However, the Department is seeking to use INFRA funding on projects that result in construction. Public-private partnership assessments for projects in the development phase are also eligible costs.

INFRA grant recipients may use INFRA funds to pay the subsidy and administrative costs necessary to receive TIFIA credit assistance.

c. Minimum Project Size Requirement

For the purposes of determining whether a project meets the minimum project size requirement, the Department will count all future eligible project costs under the award and some related costs incurred before selection for an INFRA grant. Previously incurred costs will be counted toward the minimum project size requirement only if they were eligible project costs under Section C.3.b. and were expended as part of the project for which the applicant seeks funds. Although those previously incurred costs may be used for meeting the minimum project size thresholds described in this Section, they cannot be reimbursed with INFRA grant funds, nor will they count toward the project's required non-Federal share.

i. Large Projects

The minimum project size for large projects is the lesser of $100 million; 30 percent of a State's FY 2018 Federal-aid apportionment if the project is located in one State; or 50 percent of the larger participating State's FY 2018 apportionment for projects located in more than one State. The following chart identifies the minimum total project cost for projects for FY 2018 for both single and multi-State projects.

State | FY20 NSFHP (30% of FY19 apportionment) one-state minimum (millions) | FY20 NSFHP (50% of FY19 apportionment) multi-state minimum * (millions)
Alabama | $100 | $100
Alaska | 100 | 100
Arizona | 100 | 100
Arkansas | 100 | 100
California | 100 | 100
Colorado | 100 | 100
Connecticut | 100 | 100
Delaware | 54 | 91
Dist. of Col | 51 | 86
Florida | 100 | 100
Georgia | 100 | 100
Hawaii | 54 | 91
Idaho | 92 | 100
Illinois | 100 | 100
Indiana | 100 | 100
Iowa | 100 | 100
Kansas | 100 | 100
Kentucky | 100 | 100
Louisiana | 100 | 100
Maine | 59 | 99
Maryland | 100 | 100
Massachusetts | 100 | 100
Michigan | 100 | 100
Minnesota | 100 | 100
Mississippi | 100 | 100
Missouri | 100 | 100
Montana | 100 | 100
Nebraska | 93 | 100
Nevada | 100 | 100
New Hampshire | 53 | 89
New Jersey | 100 | 100
New Mexico | 100 | 100
New York | 100 | 100
North Carolina | 100 | 100
North Dakota | 80 | 100
Ohio | 100 | 100
Oklahoma | 100 | 100
Oregon | 100 | 100
Pennsylvania | 100 | 100
Rhode Island | 70 | 100
South Carolina | 100 | 100
South Dakota | 91 | 100
Tennessee | 100 | 100
Texas | 100 | 100
Utah | 100 | 100
Vermont | 65 | 100
Virginia | 100 | 100
Washington | 100 | 100
West Virginia | 100 | 100
Wisconsin | 100 | 100
Wyoming | 83 | 100
* For multi-State projects, the minimum project size is the largest of the multi-State minimums from the participating States.

ii. Small Projects

A small project is an eligible project that does not meet the minimum project size described in Section C.3.c.i.

d. Large/Small Project Requirements

For a large project to be selected, the Department must determine that the project meets seven requirements described in 23 U.S.C. 117(g) and below. If your project consists of multiple components with independent utility, the Department must determine that each component meets each requirement, to select it for an award. The requirements, and how they are considered, are listed below:

Large Project Requirement #1: The project will generate national or regional economic, mobility, or safety benefits. The Department will base its determination on its estimate and the nature of the project's benefits.

Large Project Requirement #2: The project will be cost effective. The Department's determination will be based on its estimate of the project's benefit-cost ratio: A project is determined to be cost effective if the Department estimates that the project's benefit-cost ratio is equal to or greater than one.

Large Project Requirement #3: The project will contribute to the accomplishment of one or more of the goals described in 23 U.S.C 150. The Department will base its determination on its estimate and the nature of the project's benefits.

Large Project Requirement #4: The project is based on the results of preliminary engineering. For a project to meet this requirement, it must provide evidence that at least one of the following activities has been completed at the time of application submission, and therefore the project can be said to based on the results of that activity: Environmental assessments, topographic surveys, metes and bounds surveys, geotechnical investigations, hydrologic analysis, hydraulic analysis, utility engineering, traffic studies, financial plans, revenue estimates, hazardous materials assessments, general estimates of the types and quantities of materials, and other work needed to establish parameters for the final design.

Large Project Requirement #5: With respect to related non-Federal financial commitments, one or more stable and dependable funding or financing sources are available to construct, maintain, and operate the project, and contingency amounts are available to cover unanticipated cost increases. The Department's determination will be based on the information provided in the project's Grant Funds, Sources and Uses of Project Funds section of the application. In assessing the stability and dependability of the proposed non-federal financial commitments, the Department will consider the degree to which financing sources are dedicated to the proposed purposes and are highly likely to be available within the proposed project schedule. The Department's determination will also be based on evidence of contingency funding in the project budget.

Large Project Requirement #6: The project cannot be easily and efficiently completed without other Federal funding or financial assistance available to the project sponsor. For a project to meet this requirement, the application must describe the impacts on the project of federal funding or financial assistance being unavailable for the project, to show the project cannot be easily or efficiently completed without such assistance.

Large Project Requirement #7: The project is reasonably expected to begin construction no later than 18 months after the date of obligation of funds for the project. The Department will base its determination on the proposed project schedule and the evaluation of the project readiness evaluation team.

These seven large project requirements are discussed in greater detail in section D.2.b.vii.

For a small project to be selected, the Department must consider the cost-effectiveness of the proposed project and the effect of the proposed project on mobility in the State and region in which the project is carried out.

e. Rural/Urban Area

This section describes the statutory definition of urban and rural areas and the minimum statutory requirements for projects that meet those definitions. For more information on how the Department consider projects in urban, rural, and low population areas as part of the selection process, see Section E.1.a. Criterion #2, and E.1.c.

The INFRA statute defines a rural area as an area outside an Urbanized Area ² with a population of over 200,000. In this notice, urban area is defined as inside an Urbanized Area, as a designated by the U.S. Census Bureau, with a population of 200,000 or more.³ Rural and urban definitions differ in some other USDOT programs, including TIFIA and the FY 2018 Better Utilizing Investments to Leverage Development (BUILD) Discretionary Grants program. Cost share requirements and minimum grant awards are the same for projects located in rural and urban areas. The Department will consider a project to be in a rural area if the majority of the project (determined by geographic location(s) where the majority of the money is to be spent) is located in a rural area. However, if a project consists of multiple components, as described under section C.3.f or C.3.g., then for each separate component the Department will determine whether that component is rural or urban. In some circumstances, including networks of projects under section C.3.g that cover wide geographic regions, this component-by-component determination may result in INFRA awards that include urban and rural funds.

² For Census 2010, the Census Bureau defined an Urbanized Area (UA) as an area that consists of densely settled territory that contains 50,000 or more people. Updated lists of UAs are available on the Census Bureau website at http://www2.census.gov/geo/maps/dc10map/UAUC_RefMap/ua/. For the purposes of the INFRA program, Urbanized Areas with populations fewer than 200,000 will be considered rural.

³ See www.transportation.gov/buildamerica/InFRAgrants for a list of Urbanized Areas with a population of 200,000 or more.

f. Project Components

An application may describe a project that contains more than one component. The USDOT may award funds for a component, instead of the larger project, if that component (1) independently meets minimum award amounts described in Section B and all eligibility requirements described in Section C, including the requirements for large projects described in Sections C.3.d and D.2.b.vii; (2) independently aligns well with the selection criteria specified in Section E; and (3) meets National Environmental Policy Act (NEPA) requirements with respect to independent utility. Independent utility means that the component will represent a transportation improvement that is usable and represents a reasonable expenditure of USDOT funds even if no other improvements are made in the area, and will be ready for intended use upon completion of that component's construction. If an application describes multiple components, the application should demonstrate how the components collectively advance the purposes of the INFRA program. An applicant should not add multiple components to a single application merely to aggregate costs or avoid submitting multiple applications.

Applicants should be aware that, depending upon applicable Federal law and the relationship among project components, an award funding only some project components may make other project components subject to Federal requirements as described in Section F.2.b. For example, under 40 CFR 1508.25, the NEPA review for the funded project component may need to include evaluation of all project components as connected, similar, or cumulative actions.

The Department strongly encourages applicants to identify in their applications the project components that meet independent utility standards and separately detail the costs and INFRA funding requested for each component. If the application identifies one or more independent project components, the application should clearly identify how each independent component addresses selection criteria and produces benefits on its own, in addition to describing how the full proposal of which the independent component is a part addresses selection criteria.

g. Network of Projects

An application may describe and request funding for a network of projects. A network of projects is one INFRA award that consists of multiple projects addressing the same transportation problem. For example, if an applicant seeks to improve efficiency along a rail corridor, then their application might propose one award for four grade separation projects at four different railway-highway crossings. Each of the four projects would independently reduce congestion but the overall benefits would be greater if the projects were completed together under a single award.

The USDOT will evaluate applications that describe networks of projects similar to how it evaluates projects with multiple components. Because of their similarities, the guidance in Section C.3.f is applicable to networks of projects, and applicants should follow that guidance on how to present information in their application. As with project components, depending upon applicable Federal law and the relationship among projects within a network of projects, an award that funds only some projects in a network may make other projects subject to Federal requirements as described in Section F.2.

h. Application Limit

To encourage applicants to prioritize their INFRA submissions, each eligible applicant may submit no more than three applications. The three-application limit applies only to applications where the applicant is the lead applicant. There is no limit on applications for which an applicant can be listed as a partnering agency. If a lead applicant submits more than three applications as the lead applicant, only the first three received will be considered.

D. Application and Submission Information

1. Address

Applications must be submitted through www.Grants.gov. Instructions for submitting applications can be found at https://www.transportation.gov/buildamerica/InFRAgrants.

2. Content and Form of Application

The application must include the Standard Form 424 (Application for Federal Assistance), Standard Form 424C (Budget Information for Construction Programs), cover page, and the Project Narrative. More detailed information about the cover pages and Project Narrative follows.

a. Cover Page

Each application should contain a cover page with the following chart:

Basic Project Information:
What is the Project Name?
Who is the Project Sponsor?
Was an INFRA application for this project submitted previously? (If Yes, please include title).
Project Costs:
INFRA Request Amount | Exact Amount in year-of-expenditure dollars.
Estimated Federal funding (excl. INFRA), anticipated to be used in INFRA funded future project | Estimate in year-of-expenditure dollars.
Estimated non-Federal funding anticipated to be used in INFRA funded future project | Estimate in year-of-expenditure dollars.
Future Eligible Project Cost (Sum of previous three rows) | Estimate in year-of-expenditure dollars.
Previously incurred project costs (if applicable) | Estimate in year-of-expenditure dollars.
Total Project Cost (Sum of `previous incurred' and `future eligible') | Estimate in year-of-expenditure dollars.
Are matching funds restricted to a specific project component? If so, which one?
Project Eligibility (To be eligible, all future eligible project costs must fall into at least one of the following four categories):
Approximately how much of the estimated future eligible project costs will be spent on components of the project currently located on National Highway Freight Network (NHFN)? | Please provide an estimate, in year-of-expenditure dollars, of the costs that meet this definition.
Approximately how much of the estimated future eligible project costs will be spent on components of the project currently located on the National Highway System (NHS)? | Please provide an estimate, in year-of-expenditure dollars, of the costs that meet this definition.
Approximately how much of the estimated future eligible project costs will be spent on components constituting railway-highway grade crossing or grade separation projects? | Please provide an estimate, in year-of-expenditure dollars, of the costs that meet this definition.
Approximately how much of the estimated future eligible project costs will be spent on components constituting intermodal or freight rail projects, or freight projects within the boundaries of a public or private freight rail, water (including ports), or intermodal facility? | Please provide an estimate, in year-of-expenditure dollars, of the costs that meet this definition.
Project Location:
State(s) in which project is located.
Small or large project | Small/Large.
Urbanized Area in which project is located, if applicable.
Population of Urbanized Area (According to 2010 Census).
Is the project located (entirely or partially) in an Opportunity Zone? | Yes/No (Please reference https://www.cdfifund.gov/Pages/Opportunity-Zones.aspx) Please identify the specific 2011-2015 Low-Income Community Census Tract(s) (by number) that are Opportunity Zones.
Is the project currently programmed in the • TIP. • STIP. | Yes/no (Please specify in which plans the project is currently programmed, and provide the identifying number if applicable).
• MPO Long Range Transportation Plan.
• State Long Range Transportation Plan.
• State Freight Plan?

b. Project Narrative

The Department recommends that the project narrative follow the basic outline below to address the program requirements and assist evaluators in locating relevant information.

I. Project Description | See D.2.b.i
II. Project Location | See D.2.b.ii
III. Project Parties | See D.2.b.iii.
IV. Grant Funds, Sources and Uses of all Project Funding | See D.2.b.iv
V. Merit Criteria | See D.2.b.v
VI. Project Readiness | See D.2.b.vi and E.1.c.ii
VII. Large/Small Project Requirements | See D.2.b.vii and C.3.d.

The project narrative should include the information necessary for the Department to determine that the project satisfies project requirements described in Sections B and C and to assess the selection criteria specified in Section E.1. To the extent practicable, applicants should provide supporting data and documentation in a form that is directly verifiable by the Department. The Department may ask any applicant to supplement data in its application, but expects applications to be complete upon submission.

In addition to a detailed statement of work, detailed project schedule, and detailed project budget, the project narrative should include a table of contents, maps, and graphics, as appropriate, to make the information easier to review. The Department recommends that the project narrative be prepared with standard formatting preferences (i.e., a single-spaced document, using a standard 12-point font such as Times New Roman, with 1-inch margins). The project narrative may not exceed 25 pages in length, excluding cover pages and table of contents. The only substantive portions that may exceed the 25-page limit are documents supporting assertions or conclusions made in the 25-page project narrative. If possible, website links to supporting documentation should be provided rather than copies of these supporting materials. If supporting documents are submitted, applicants should clearly identify within the project narrative the relevant portion of the project narrative that each supporting document supports. At the applicant's discretion, relevant materials provided previously to a modal administration in support of a different USDOT financial assistance program may be referenced and described as unchanged. The Department recommends using appropriately descriptive final names (e.g., “Project Narrative,” “Maps,” “Memoranda of Understanding and Letters of Support,” etc.) for all attachments. The USDOT recommends applications include the following sections:

i. Project Summary

The first section of the application should provide a concise description of the project, the transportation challenges that it is intended to address, and how it will address those challenges. This section should discuss the project's history, including a description of any previously incurred costs. The applicant may use this section to place the project into a broader context of other infrastructure investments being pursued by the project sponsor.

ii. Project Location

This section of the application should describe the project location, including a detailed geographical description of the proposed project, a map of the project's location and connections to existing transportation infrastructure, and geospatial data describing the project location. If the project is located within the boundary of a Census-designated Urbanized Area, the application should identify the Urbanized Area.

iii. Project Parties

This section of the application should list all project parties, including details about the proposed grant recipient and other public and private parties who are involved in delivering the project, such as port authorities, terminal operators, freight railroads, shippers, carriers, freight-related associations, third-party logistics providers, and freight industry workforce organizations.

iv. Grant Funds, Sources and Uses of Project Funds

This section of the application should describe the project's budget. At a minimum, it should include:

(A) Previously incurred expenses, as defined in Section C.3.c.

(B) Future eligible costs, as defined in Section C.3.c.

(C) For all funds to be used for future eligible project costs, the source and amount of those funds.

(D) For non-Federal funds to be used for future eligible project costs, documentation of funding commitments should be referenced here and included as an appendix to the application.

(E) For Federal funds to be used for future eligible project costs, the amount, nature, and source of any required non-Federal match for those funds.

(F) A budget showing how each source of funds will be spent. The budget should show how each funding source will share in each major construction activity, and present that data in dollars and percentages. Funding sources should be grouped into three categories: Non-Federal; INFRA; and other Federal. If the project contains components, the budget should separate the costs of each project component. If the project will be completed in phases, the budget should separate the costs of each phase. The budget should be detailed enough to demonstrate that the project satisfies the statutory cost-sharing requirements described in Section C.2.

(G) Information showing that the applicant has budgeted sufficient contingency amounts to cover unanticipated cost increases.

(H) The amount of the requested INFRA funds that would be subject to the limit on freight rail, port, and intermodal infrastructure described in Section B.2.

In addition to the information enumerated above, this section should provide complete information on how all project funds may be used. For example, if a source of funds is available only after a condition is satisfied, the application should identify that condition and describe the applicant's control over whether it is satisfied. Similarly, if a source of funds is available for expenditure only during a fixed period, the application should describe that restriction. Complete information about project funds will ensure that the Department's expectations for award execution align with any funding restrictions unrelated to the Department, even if an award differs from the applicant's request.

v. Merit Criteria

This section of the application should demonstrate how the project aligns with the Merit Criteria described in Section E.1 of this notice. The Department encourages applicants to address each criterion or expressly state that the project does not address the criterion. Applicants are not required to follow a specific format, but the following organization, which addresses each criterion separately, promotes a clear discussion that assists project evaluators. To minimize redundant information in the application, the Department encourages applicants to cross-reference from this section of their application to relevant substantive information in other sections of the application.

The guidance here is about how the applicant should organize their application. Guidance describing how the Department will evaluate projects against the Merit Criteria is in Section E.1 of this notice. Applicants also should review that section before considering how to organize their application.

Criterion #1: Support for National or Regional Economic Vitality

This section of the application should describe the anticipated outcomes of the project that support the Economic Vitality criterion (described in Section E.1.a of this notice). The applicant should summarize the conclusions of the project's benefit-cost analysis, including estimates of the project's benefit-cost ratio and net benefits. The applicant should also describe economic impacts and other data-supported benefits that are not included in the benefit-cost analysis. For the purposes of considering whether the project primarily serves freight and goods movement, the application should include estimates of the volume and share of freight (trucks, rail carloads, TEUs, tonnage, or other relevant measure) that travels through the project area and identify the sources for those estimates.

Consistent with the Department's ROUTES Initiative, the Department encourages applicants to describe how the project would address the unique challenges of rural transportation networks in safety, infrastructure condition, and passenger and freight usage, should the project serve a rural location.

The benefit-cost analysis itself should be provided as an appendix to the project narrative, as described in Section D.2.d. of this notice.

Criterion #2: Leveraging of Federal Funding

While the Leveraging Criterion will be assessed according to the methodology described in Section E.1.a., this section of the application may be used to include additional information that may strengthen the Department's understanding of the project sponsor's effort to improve non-Federal leverage. Please describe the source of all matching funds in the project's financial plan. Please state the share of matching funds coming from Federal funds, including Federal formula funds that may be passed through a state entity.

Criterion #3: Potential for Innovation

This section of the application should contain sufficient information to evaluate how the project includes or enables innovation in: (1) The accelerated deployment of innovative technology, including expanded access to broadband; (2) use of innovative permitting, contracting, and other project delivery practices; and (3) innovative financing. If the project does not address a particular innovation area, the application should state this fact. Please see Section E.1.a for additional information.

Criterion #4: Performance and Accountability

This section of the application should include sufficient information to evaluate how the applicant will advance the Performance and Accountability program objective. In general, the applicant should indicate which (if any) accountability measures they are willing to implement or have implemented, along with the specific details necessary for the Department to evaluate their accountability measure. The applicant should also address the lifecycle cost component of this criterion in this section. See Section E.1.a for additional information.

vi. Project Readiness

This section of the application should include information that, when considered with the project budget information presented elsewhere in the application, is sufficient for the Department to evaluate whether the project is reasonably expected to begin construction in a timely manner. To assist the Department's project readiness assessment, the applicant should provide the information requested on technical feasibility, project schedule, project approvals, and project risks, each of which is described in greater detail in the following sections. Applicants are not required to follow the specific format described here, but this organization, which addresses each relevant aspect of project readiness, promotes a clear discussion that assists project evaluators. To minimize redundant information in the application, the Department encourages applicants to cross-reference from this section of their application to relevant substantive information in other sections of the application.

The guidance here is about what information applicants should provide and how the applicant should organize their application. Guidance describing how the Department will evaluate a project's readiness is described in section E.1 of this notice. Applicants also should review that section before considering how to organize their application.

(A) Technical Feasibility. The applicant should demonstrate the technical feasibility of the project with engineering and design studies and activities; the development of design criteria and/or a basis of design; the basis for the cost estimate presented in the INFRA application, including the identification of contingency levels appropriate to its level of design; and any scope, schedule, and budget risk-mitigation measures. Applicants should include a detailed statement of work that focuses on the technical and engineering aspects of the project and describes in detail the project to be constructed.

(B) Project Schedule. The applicant should include a detailed project schedule that identifies all major project milestones. Examples of such milestones include State and local planning approvals (programming on the Statewide Transportation Improvement Program), start and completion of NEPA and other Federal environmental reviews and approvals including permitting; design completion; right of way acquisition; approval of plans, specifications and estimates (PS&E); procurement; State and local approvals; project partnership and implementation agreements including agreements with railroads; and construction. The project schedule should be sufficiently detailed to demonstrate that:

(1) All necessary activities will be complete to allow INFRA funds to be obligated sufficiently in advance of the statutory deadline (September 30, 2023 for FY 2020 funds), and that any unexpected delays will not put the funds at risk of expiring before they are obligated;

(2) the project can begin construction quickly upon obligation of INFRA funds, and that the grant funds will be spent expeditiously once construction starts; and

(3) all real property and right-of-way acquisition will be completed in a timely manner in accordance with 49 CFR part 24, 23 CFR part 710, and other applicable legal requirements or a statement that no acquisition is necessary.

(C) Required Approvals.

(1) Environmental Permits and Reviews. The application should demonstrate receipt (or reasonably anticipated receipt) of all environmental approvals and permits necessary for the project to proceed to construction on the timeline specified in the project schedule and necessary to meet the statutory obligation deadline, including satisfaction of all Federal, State, and local requirements and completion of the NEPA process. Specifically, the application should include:

(a) Information about the NEPA status of the project. If the NEPA process is complete, an applicant should indicate the date of completion, and provide a website link or other reference to the final Categorical Exclusion, Finding of No Significant Impact, Record of Decision, and any other NEPA documents prepared. If the NEPA process is underway, but not complete, the application should detail the type of NEPA review underway, where the project is in the process, and indicate the anticipated date of completion of all milestones and of the final NEPA determination. If the last agency action with respect to NEPA documents occurred more than three years before the application date, the applicant should describe why the project has been delayed and include a proposed approach for verifying and, if necessary, updating this material in accordance with applicable NEPA requirements.

(b) Information on reviews, approvals, and permits by other agencies. An application should indicate whether the proposed project requires reviews or approval actions by other agencies,⁴ indicate the status of such actions, and provide detailed information about the status of those reviews or approvals and should demonstrate compliance with any other applicable Federal, State, or local requirements, and when such approvals are expected. Applicants should provide a website link or other reference to copies of any reviews, approvals, and permits prepared.

⁴ Projects that may impact protected resources such as wetlands, species habitat, cultural or historic resources require review and approval by Federal and State agencies with jurisdiction over those resources.

(c) Environmental studies or other documents—preferably through a website link—that describe in detail known project impacts, and possible mitigation for those impacts.

(d) A description of discussions with the appropriate USDOT modal administration field or headquarters office regarding the project's compliance with NEPA and other applicable Federal environmental reviews and approvals.

(e) A description of public engagement about the project that has occurred, including details on the degree to which public comments and commitments have been integrated into project development and design.

(2) State and Local Approvals. The applicant should demonstrate receipt of State and local approvals on which the project depends, such as State and local environmental and planning approvals and STIP or TIP funding. Additional support from relevant State and local officials is not required; however, an applicant should demonstrate that the project has broad public support.

(3) Federal Transportation Requirements Affecting State and Local Planning. The planning requirements applicable to the Federal-aid highway program apply to all INFRA projects, but for port, freight, and rail projects, planning requirements of the operating administration that will administer the INFRA project will also apply,⁵ including intermodal projects located at airport facilities.⁶ Applicants should demonstrate that a project that is required to be included in the relevant State, metropolitan, and local planning documents has been or will be included in such documents. If the project is not included in a relevant planning document at the time the application is submitted, the applicant should submit a statement from the appropriate planning agency that actions are underway to include the project in the relevant planning document.

⁵ In accordance with 23 U.S.C. 134 and 135, all projects requiring an action by the Federal Highway Administration (FHWA) must be in the applicable plan and programming documents (e.g., metropolitan transportation plan, transportation improvement program (TIP) and statewide transportation improvement program (STIP)). Further, in air quality non-attainment and maintenance areas, all regionally significant projects, regardless of the funding source, must be included in the conforming metropolitan transportation plan and TIP. Inclusion in the STIP is required under certain circumstances. To the extent a project is required to be on a metropolitan transportation plan, TIP, and/or STIP, it will not receive an INFRA grant until it is included in such plans. Projects not currently included in these plans can be amended by the State and metropolitan planning organization (MPO). Projects that are not required to be in long range transportation plans, STIPs, and TIPs will not need to be included in such plans to receive an INFRA grant. Port, freight rail, and intermodal projects are not required to be on the State Rail Plans called for in the Passenger Rail Investment and Improvement Act of 2008. However, applicants seeking funding for freight projects are encouraged to demonstrate that they have done sufficient planning to ensure that projects fit into a prioritized list of capital needs and are consistent with long-range goals. Means of demonstrating this consistency would include whether the project is in a TIP or a State Freight Plan that conforms to the requirements Section 70202 of Title 49 prior to the start of construction. Port planning guidelines are available at StrongPorts.gov.

⁶ Projects at grant obligated airports must be compatible with the FAA-approved Airport Layout Plan (ALP), as well as aeronautical surfaces associated with the landing and takeoff of aircraft at the airport. Additionally, projects at an airport: Must comply with established Sponsor Grant Assurances, including (but not limited to) requirements for non-exclusive use facilities, consultation with users, consistency with local plans including development of the area surrounding the airport, and consideration of the interest of nearby communities, among others; and must not adversely affect the continued and unhindered access of passengers to the terminal.

To the extent possible, freight projects should be included in a State Freight Plan and supported by a State Freight Advisory Committee (49 U.S.C. 70201, 70202). Applicants should provide links or other documentation supporting this consideration.

Because projects have different schedules, the construction start date for each INFRA grant will be specified in the project-specific agreements signed by relevant modal administration and the grant recipients, based on critical path items that applicants identify in the application and will be consistent with relevant State and local plans.

(D) Assessment of Project Risks and Mitigation Strategies. Project risks, such as procurement delays, environmental uncertainties, increases in real estate acquisition costs, uncommitted local match, or lack of legislative approval, affect the likelihood of successful project start and completion. The applicant should identify all material risks to the project and the strategies that the lead applicant and any project partners have undertaken or will undertake to mitigate those risks. The applicant should assess the greatest risks to the project and identify how the project parties will mitigate those risks.

To the extent it is unfamiliar with the Federal program, the applicant should contact USDOT modal field or headquarters offices as found at www.transportation.gov/infragrants for information on what steps are pre-requisite to the obligation of Federal funds to ensure that their project schedule is reasonable and that there are no risks of delays in satisfying Federal requirements.

vii. Large/Small Project Requirements

To select a large project for award, the Department must determine that the project—as a whole, as well as each independent component of the project—satisfies several statutory requirements enumerated at 23 U.S.C. 117(g) and restated in the table below. The application must include sufficient information for the Department to make these determinations for both the project as a whole and for each independent component of the project. Applicants should use this section of the application to summarize how their project and, if present, each independent project component, meets each of the following requirements. Applicants are not required to reproduce the table below in their application, but following this format will help evaluators identify the relevant information that supports each large project determination. To minimize redundant information in the application, the Department encourages applicants to cross-reference from this section of their application to relevant substantive information in other sections of the application.

Large project determination | Guidance
1. Does the project generate national or regional economic, mobility, or safety benefits? | Summarize the economic, mobility, and safety benefits of the project and independent project components, and describe the scale of their impact in national or regional terms. This information may be found in Section V. of the application.
2. Is the project cost effective? | Highlight the results of the benefit cost analysis, as well as the analyses of independent project components if applicable, described in Section V of the application.
3. Does the project contribute to one or more of the Goals listed under 23 U.S.C. 150 (and shown below)? (1) National Goals.—It is in the interest of the United States to focus the Federal-aid highway program on the following national goals: | Specify the Goal(s) and summarize how the project and independent project components contributes to that goal(s). This information may also be found in Section I or Section V.
(2) Safety.—To achieve a significant reduction in traffic fatalities and serious injuries on all public roads.
(3) Infrastructure condition.—To maintain the highway infrastructure asset system in a state of good repair.
(4) Congestion reduction.—To achieve a significant reduction in congestion on the National Highway System.
(5) System reliability.—To improve the efficiency of the surface transportation system.
(6) Freight movement and economic vitality.—To improve the national freight network, strengthen the ability of rural communities to access national and international trade markets, and support regional economic development.
(7) Environmental sustainability.—To enhance the performance of the transportation system while protecting and enhancing the natural environment.
(8) Reduced project delivery delays.—To reduce project costs, promote jobs and the economy, and expedite the movement of people and goods by accelerating project completion through eliminating delays in the project development and delivery process, including reducing regulatory burdens and improving agencies' work practices.
4. Is the project based on the results of preliminary engineering? | For a project or independent project component to be based on the results of preliminary engineering, please indicate which of the following activities have been completed as of the date of application submission:
| • Environmental Assessments.
| • Topographic Surveys.
| • Metes and Bounds Surveys.
| • Geotechnical Investigations.
| • Hydrologic Analysis.
| • Utility Engineering.
| • Traffic Studies.
| • Financial Plans.
| • Revenue Estimates.
| • Hazardous Materials Assessments.
| • General estimates of the types and quantities of materials.
| • Other work needed to establish parameters for the final design.
5a. With respect to non-Federal financial commitments, does the project have one or more stable and dependable funding or financing sources to construct, maintain, and operate the project? | Please indicate funding source(s) and amounts that will account for all project costs for the project and each independent project component, if applicable. Historical trends, current policy, or future feasibility analyses can be used as evidence to substantiate the stable and dependable nature of the non-Federal funding or financing.
5b. Are contingency amounts available to cover unanticipated cost increases? | Contingency amounts are often, but not always, expressly shown in project budgets or the SF-424C. If your project cost estimates include an implicit contingency calculation, please say so directly.
6. Is it the case that the project cannot be easily and efficiently completed without other Federal funding or financial assistance available to the project sponsor? | Describe the impact on the proposed project of no federal funding being available for that project, including the INFRA grant, sufficient to demonstrate that the project cannot be completed easily or efficiently without Federal funding or financial assistance. Negative impacts to the project's costs or schedule are frequently used examples.
7. Is the project reasonably expected to begin construction not later than 18 months after the date of obligation of funds for the project? | Please reference project budget and schedule when providing evidence. If the project has multiple independent components, or will be obligated and constructed in multiple phases, please provide sufficient information to show that each component meets this requirement.

For a small project to be selected, the Department must consider the cost effectiveness of the proposed project and the effect of the proposed project on mobility in the State and region in which the project is carried out. If an applicant seeks an award for a small project, it should use this section to provide information on the project's cost effectiveness and the project's effect on the mobility in its State and region, or refer to where else the information can be found in the application.

c. Guidance for Benefit-Cost Analysis

This section describes the recommended approach for the completion and submission of a benefit-cost analysis (BCA) as an appendix to the Project Narrative. The results of the analysis should be summarized in the Project Narrative directly, as described in Section D.2.b.v.

Applicants should delineate each of their project's expected outcomes in the form of a complete BCA to enable the Department to consider cost-effectiveness (small projects), determine whether the project will be cost effective (large projects), estimate a benefit-cost ratio and calculate the magnitude of net benefits and costs for the project. In support of each project for which an applicant seeks funding, the applicant should submit a BCA that quantifies the expected benefits and costs of the project against a no-build baseline. Applicants should use a real discount rate (i.e., the discount rate net of the inflation rate) of 7 percent per year to discount streams of benefits and costs to their present value in their BCA.

The primary economic benefits from projects eligible for INFRA grants are likely to include savings in travel time costs, vehicle operating costs, and safety costs for both existing users of the improved facility and new users who may be attracted to it as a result of the project. Reduced damages from vehicle emissions and savings in maintenance costs to public agencies may also be quantified. Applicants may describe other categories of benefits in the BCA that are more difficult to quantify and value in economic terms, such as improving the reliability of travel times or improvements to the existing human and natural environments (such as increased connectivity, improved public health, storm water runoff mitigation, and noise reduction), while also providing numerical estimates of the magnitude and timing of each of these additional impacts wherever possible. Any benefits claimed for the project, both quantified and unquantified, should be clearly tied to the expected outcomes of the project.

The BCA should include the full costs of developing, constructing, operating, and maintaining the proposed project (including both previously incurred and future costs), as well as the expected timing or schedule for costs in each of these categories. The BCA may also consider the present discounted value of any remaining service life of the asset at the end of the analysis period (net of future maintenance and rehabilitation costs) as a deduction from the estimated costs. The costs and benefits that are compared in the BCA should also cover the same project scope.

The BCA should carefully document the assumptions and methodology used to produce the analysis, including a description of the baseline, the sources of data used to project the outcomes of the project, and the values of key input parameters. Applicants should provide all relevant files used for their BCA, including any spreadsheet files and technical memos describing the analysis (whether created in-house or by a contractor). The spreadsheets and technical memos should present the calculations in sufficient detail and transparency to allow the analysis to be reproduced by USDOT evaluators. Detailed guidance for estimating some types of quantitative benefits and costs, together with recommended economic values for converting them to dollar terms and discounting to their present values, are available in the Department's guidance for conducting BCAs for projects seeking funding under the INFRA program (see https://www.transportation.gov/office-policy/transportation-policy/benefit-cost-analysis-guidance).

Applicants for freight projects within the boundaries of a freight rail, water (including ports), or intermodal facility should also quantify the benefits of their proposed projects for freight movements on the National Highway Freight Network, and should demonstrate that the Federal share of the project funds only elements of the project that provide public benefits.

3. Unique Entity Identifier and System for Award Management (SAM)

Each applicant must: (1) Be registered in SAM before submitting its application; (2) provide a valid unique entity identifier in its application; and (3) continue to maintain an active SAM registration with current information at all times during which it has an active Federal award or an application or plan under consideration by a Federal awarding agency. The Department may not make an INFRA grant to an applicant until the applicant has complied with all applicable unique entity identifier and SAM requirements and, if an applicant has not fully complied with the requirements by the time the Department is ready to make an INFRA grant, the Department may determine that the applicant is not qualified to receive an INFRA grant and use that determination as a basis for making an INFRA grant to another applicant.

4. Submission Dates and Timelines

a. Deadline

Applications must be submitted by 11:59 p.m. EST February 25, 2020. The Grants.gov “Apply” function will open by January 15, 2020.

To submit an application through Grants.gov, applicants must:

(1) Obtain a Data Universal Numbering System (DUNS) number:

(2) Register with the System Award for Management (SAM) at www.sam.gov; and

(3) Create a Grants.gov username and password;

(4) The E-business Point of Contact (POC) at the applicant's organization must also respond to the registration email from Grants.gov and login at Grants.gov to authorize the POC as an Authorized Organization Representative (AOR). Please note that there can only be one AOR per organization.

Please note that the Grants.gov registration process usually takes 2-4 weeks to complete and that the Department will not consider late applications that are the result of failure to register or comply with Grants.gov applicant requirements in a timely manner. For information and instruction on each of these processes, please see instructions at http://www.grants.gov/web/grants/applicants/applicant-faqs.html. If interested parties experience difficulties at any point during the registration or application process, please call the Grants.gov Customer Service Support Hotline at 1(800) 518-4726, Monday-Friday from 7:00 a.m. to 9:00 p.m. EST.

b. Consideration of Application

Only applicants who comply with all submission deadlines described in this notice and submit applications through Grants.gov will be eligible for award. Applicants are strongly encouraged to make submissions in advance of the deadline.

c. Late Applications

Applications received after the deadline will not be considered except in the case of unforeseen technical difficulties outlined in Section D.4.d.

d. Late Application Policy

Applicants experiencing technical issues with Grants.gov that are beyond the applicant's control must contact INFRAgrants@dot.gov prior to the application deadline with the user name of the registrant and details of the technical issue experienced. The applicant must provide:

(1) Details of the technical issue experienced;

(2) Screen capture(s) of the technical issues experienced along with corresponding Grants.gov “Grant tracking number”;

(3) The “Legal Business Name” for the applicant that was provided in the SF-424;

(4) The AOR name submitted in the SF-424;

(5) The DUNS number associated with the application; and

(6) The Grants.gov Help Desk Tracking Number.

To ensure a fair competition of limited discretionary funds, the following conditions are not valid reasons to permit late submissions: (1) Failure to complete the registration process before the deadline; (2) failure to follow Grants.gov instructions on how to register and apply as posted on its website; (3) failure to follow all the instructions in this notice of funding opportunity; and (4) technical issues experienced with the applicant's computer or information technology environment. After the Department reviews all information submitted and contacts the Grants.gov Help Desk to validate reported technical issues, USDOT staff will contact late applicants to approve or deny a request to submit a late application through Grants.gov. If the reported technical issues cannot be validated, late applications will be rejected as untimely.

E. Application Review Information

1. Criteria

a. Merit Criteria

The Department will consider the extent to which the project addresses the follow criteria, which are explained in greater detail below and reflect the key program objectives described in Section A.2: (1) Support for national or regional economic vitality; (2) leveraging of Federal funding; (3) potential for innovation; and (4) performance and accountability. The Department is neither weighting these criteria nor requiring that each application address every criterion, but the Department expects that competitive applications will substantively address all four criteria.

Criterion #1: Support for National or Regional Economic Vitality

The Department will consider the extent to which a project would support the economic vitality of either the nation or a region. To the extent possible, the Department will rely on quantitative, data-supported analysis to assess how well a project addresses this criterion, including an assessment of the applicant-supplied benefit-cost analysis described in Section D.2.d. In addition to considering the anticipated outcomes of the project that align with this criterion, the Department will consider estimates of the project's benefit-cost ratio and net quantifiable benefits.

Based on the Department's assessment, the Department will group projects into ranges based on their estimated benefit costs ratio (BCR) and net present value (NPV), and assign a level of confidence associated with each project's assigned BCR and NPV ratings. The Department will use these ranges for BCR: Less than 1; 1-1.5; 1.5-3; and greater than 3. The Department will use these ranges for NPV: Less than $0; $0- $50,000,000; $50,000,000-$250,000,000; and greater than $250,000,000. The confidence levels are high, medium, and low.

Projects which primarily serve freight and goods movement play an important role in supporting economic vitality. Accordingly, the Department anticipates awarding some INFRA funding to projects which primarily serve freight and goods movement to advance the objective of supporting national and regional economic vitality.

Criterion #2: Leveraging of Federal Funding

To maximize the impact of INFRA awards, the Department seeks to leverage INFRA funding with non-Federal contributions. To evaluate this criterion, the Department will assign a rating to each project based on how the calculated non-Federal share of the project's future eligible project costs compares with other projects proposed for INFRA funding. The Department will sort large and small project applications' non-Federal leverage percentage from high to low, and the assigned ratings will be based on quintile: projects in the 80th percentile and above receive the highest rating; the 60th-79th percentile receive the second highest rating; 40th-59th, the third highest; 20th-39th, the fourth highest; and 0-19th, the lowest rating.

USDOT recognizes that applicants have varying abilities and resources to contribute non-Federal contributions. If an applicant describes broader fiscal constraints that affect its ability to generate or draw on non-Federal contributions, the Department may consider those constraints. Relevant constraints may include the size of the population taxed to supply the matching funds, the wealth of that population, or other constraints on the raising of funds. In addition, the Department may consider whether there are obstacles to collecting non-Federal revenue from a project's beneficiaries, including the extent to which a project's beneficiaries reside in the sponsor's jurisdiction.

This evaluation criterion is separate from the statutory cost share requirements for INFRA grants, which are described in Section C.2. Those statutory requirements establish the minimum permissible non-Federal share; they do not define a competitive INFRA project. Unlike how the Department evaluates cost share for eligibility purposes (as described in section C.2 of this notice), for the purposes of evaluating leverage as a competitive selection criterion, the Department will consider the proceeds of Federal assistance under chapter 6 of Title 23, United States Code or sections 501 through 504 of the Railroad and Revitalization and Regulatory Reform Act of 1976 (Pub. L. 94-210), as amended, to be part of the Federal share of project costs. Applications that require other discretionary funding from the Department to complete the project's funding package will be considered less competitive.

Criterion #3: Potential for Innovation

The Department seeks to use the INFRA program to encourage innovation in three areas: (1) The accelerated deployment of innovative technology and expanded access to broadband; (2) use of innovative permitting, contracting, and other project delivery practices; and (3) innovative financing. The project will be assigned an innovation rating based on how it cumulatively addresses these areas. Applications that address at least two of these three areas will be assigned a high rating. Applications that address one of these areas will be assigned a medium rating. Applications that address none of these areas will be assigned a low rating.

In Innovation Area #1: Technology, the application will be determined to have addressed the Technology Innovation Area if the INFRA project incorporates any of the following:

• Conflict detection and mitigation technologies (e.g., intersection alerts, signal prioritization, or smart traffic signals);

• Dynamic signaling or pricing systems to reduce congestion;

• Signage and design features that facilitate autonomous or semi-autonomous vehicle technologies;

• Applications to automatically capture and report safety-related issues (e.g., identifying and documenting near-miss incidents);

• V2X Technologies (e.g., technology that facilitates passing of information between a vehicle and any entity that may affect the vehicle);

• Cybersecurity elements to protect safety-critical systems;

• Technology at land and sea ports of entry that reduces congestion, wait times, and delays, while maintaining or enhancing the integrity of our border;

• Work Zone data exchanges or related data exchanges

• Other Intelligent Transportation Systems (ITS) that directly benefit the project's users.

The application will also address the Technology Innovation Area if the project facilitates broadband deployment and the installation of high-speed networks concurrent with project construction. The Department is particularly interested in broadband deployment in rural areas, per Presidential Executive Order 13821 Streamlining and Expediting Requests to Locate Broadband Facilities in Rural America.

In Innovation Area #2: Project Delivery, the Department will assess whether the applicant intends to pursue an innovative strategy to improve project delivery. These strategies will result in more efficient project implementation. Some of these strategies may require the use of a SEP-14 or SEP-15 waiver, but many do not: An application can address this innovation area without requiring a waiver. Examples of innovative project delivery include:

• Contracting/Procurement:

○ Indefinite Quantity/Indefinite Delivery Contracting

○ Alternative Pavement Type Bidding

○ No Excuse Bonuses

○ Lump Sum Bidding

○ Best Value Procurement

○ System Integrator Contracts

○ Progressive Design-Build

○ P3 DBFOM Procurements

• Environmental Requirements

○ NEPA/Section 404 Merger

○ Use of Permitting/Authorization Agency Liaisons

○ Establishment of State/Local “One-Stop-Shop” for Permitting

○ Programmatic Agreements

• Every Day Counts Initiative

○ Use of proven technologies and innovations to shorten and enhance project delivery listed at https://www.fhwa.dot.gov/innovation/everydaycounts/edc_innovation.cfm

Finally, in Innovation Area #3, Innovative Financing, the Department will consider if the project financial plan incorporates funding or financing from innovative sources, or if the applicant describes recent or pending efforts to raise significant new revenue for transportation investment across its program.

Examples of innovative sources in a financial plan include:

• Private Sector contributions, excluding donated right-of-way, amounting to at least $5 million,

• Revenue from the competitive sale or lease of publicly owned or operated asset, or

• Financing supported by direct project user fees

Examples of significant new revenue—provided it is dedicated to transportation investment across an applicant's program—include:

• Revenue resulting from recent or pending increases to sales or fuel taxes

• Revenue resulting from the recent or pending implementation of tolling

• Revenue resulting from the recent or pending adoption of value capture strategies such as tax-increment financing

• Revenue resulting from the recent or pending competitive sale or lease of publicly owned or operated assets

Criterion #4: Performance and Accountability

The Department encourages applicants to describe a credible plan to address the full lifecycle costs associated with the project and implement an accountability measure as described in Section A.2.d of this NOFO.

A credible plan to address full lifecycle costs should include, at a minimum, (1) an estimate of the lifecycle costs of the project; (2) an identified source of funding that will be sufficient to pay for operation and maintenance of the project; and (3) a description of controls in place to ensure the identified funding will not be diverted away from operation and maintenance. Examples of such controls include if a private sector entity is contractually obligated to maintain the project, if a project sponsor has a demonstrated history of fully funding maintenance on its assets, or if the sponsor describes an asset management plan or strategy.

Applicants intending to address the accountability measure portion of this criterion should describe how they meet at least one of the three options below:

(1) The applicant should agree to meet a specific construction start and completion date, detailed in the application. If the project sponsor does not meet these deadlines, the project will be subject to forfeit or return of up to 10% of the awarded funds, or $10 million, whichever is lower.

(2) The applicant should propose a specific indicator of project success that will be evident within 12 months of project completion. The indicator should relate to a benefit estimated in the BCA (e.g., travel time savings), and the level of performance should be consistent with the estimates in the BCA. If the project fails to produce this specific outcome in the time allotted, it will be subject to forfeit or return of up to 10% of the awarded funds, or $10 million, whichever is lower.

The project will be assigned a Performance and Accountability rating based on how it addresses these areas. Applications that address both lifecycle costs and accountability measures will receive a high rating. Applications that address either lifecycle costs or accountability measures, but not both, will receive a medium rating. Applications that address neither area will receive a low rating.

b. Additional Considerations

i. Geographic Diversity

By statute, when selecting INFRA projects, the Department must consider contributions to geographic diversity among recipients, including the need for a balance between the needs of rural and urban communities. However, the Department also recognizes that it can better balance the needs of rural and urban communities if it does not take a binary view of urban and rural. Accordingly, in addition to considering whether a project is “rural” as defined by the INFRA statute and described in section C.3.e, when balancing the needs of rural and urban communities, the Department may consider the actual population of the community that each project is located in.

The Department will also consider whether the project is located in a qualified opportunity zone, pursuant to 26 U.S.C. 1400Z-1. A project located in a qualified opportunity zone is more competitive than a similar project that is not located in a qualified opportunity zone.

ii. Project Readiness

During application evaluation, the Department considers project readiness in two ways: To assess the likelihood of successful project delivery and to confirm that a project will satisfy statutory readiness requirements.

First, the Department will consider significant risks to successful completion of a project, including risks associated with environmental review, permitting, technical feasibility, funding, and the applicant's capacity to manage project delivery. Risks do not disqualify projects from award, but competitive applications clearly and directly describe achievable risk mitigation strategies. A project with mitigated risks is more competitive than a comparable project with unaddressed risks.

Second, by statute, the Department cannot award a large project unless that project is reasonably expected to begin construction within 18 months of obligation of funds for the project. Obligation occurs when a selected applicant enters a written, project-specific agreement with the Department and is generally after the applicant has satisfied applicable administrative requirements, including transportation planning and environmental review requirements. Depending on the nature of pre-construction activities included in the awarded project, the Department may obligate funds in phases. Preliminary engineering and right-of-way acquisition activities, such as environmental review, design work, and other preconstruction activities, do not fulfill the requirement to begin construction within 18 months of obligation for large projects. By statute, INFRA funds must be obligated within three years of the end of the fiscal year for which they are authorized. Therefore, for awards with FY 2020 funds, the Department will determine that large projects with an anticipated obligation date beyond September 30, 2023 are not reasonably expected to begin construction within 18 months of obligation.

iii. Previous Awards

The Department may consider whether the project has previously received an award from the BUILD, INFRA, or other departmental discretionary grant programs.

2. Review and Selection Process

The USDOT will review all eligible applications received before the application deadline. The INFRA process consists of a Technical Evaluation phase and Senior Review. In the Technical Evaluation phase, teams will, for each project, determine whether the project satisfies statutory requirements and rate how well it addresses the selection criteria. The Senior Review Team will consider the applications and the technical evaluations to determine which projects to advance to the Secretary for consideration. The Secretary will ultimately select the projects for award. A Quality Control and Oversight Team will ensure consistency across project evaluations and appropriate documentation throughout the review and selection process.

3. Additional Information

Prior to award, each selected applicant will be subject to a risk assessment as required by 2 CFR 200.205. The Department must review and consider any information about the applicant that is in the designated integrity and performance system accessible through SAM (currently the Federal Awardee Performance and Integrity Information System (FAPIIS)). An applicant may review information in FAPIIS and comment on any information about itself. The Department will consider comments by the applicant, in addition to the other information in FAPIIS, in making a judgment about the applicant's integrity, business ethics, and record of performance under Federal awards when completing the review of risk posed by applicants.

F. Federal Award Administration Information

1. Federal Award Notices

Following the evaluation outlined in Section E, the Secretary will announce awarded projects by posting a list of selected projects at https://www.transportation.gov/buildamerica/INFRAgrants. Following the announcement, the Department will contact the point of contact listed in the SF 424 to initiate negotiation of a project-specific agreement.

2. Administrative and National Policy Requirements

a. Safety Requirements

The Department will require INFRA projects to meet two general requirements related to safety. First, INFRA projects must be part of a thoughtful, data-driven approach to safety. Each State maintains a strategic highway safety plan.⁷ INFRA projects will be required to incorporate appropriate elements that respond to priority areas identified in that plan and are likely to yield safety benefits. Second, INFRA projects will incorporate appropriate safety-related activities that the Federal Highway Administration (FHWA) has identified as “proven safety countermeasures” due to their history of demonstrated effectiveness.⁸

⁷ Information on State-specific strategic highway safety plans is available at https://safety.fhwa.dot.gov/shsp/other_resources.cfm.

⁸ Information on FHWA proven safety countermeasures is available at: https://safety.fhwa.dot.gov/provencountermeasures/.

After selecting INFRA recipients, the Department will work with those recipients on a project-by-project basis to determine the specific safety requirements that are appropriate for each award.

b. Other Administrative and Policy Requirements

All INFRA awards will be administered pursuant to the Uniform Administrative Requirements, Cost Principles and Audit Requirements for Federal Awards found in 2 CFR part 200, as adopted by USDOT at 2 CFR part 1201. A project carried out under the INFRA program will be treated as if the project is located on a Federal-aid highway. Additionally, applicable Federal laws, rules and regulations of the relevant operating administration administering the project will apply to the projects that receive INFRA grants, including planning requirements, Stakeholder Agreements, and other requirements under the Department's other highway, transit, rail, and port grant programs. For an illustrative list of the applicable laws, rules, regulations, executive orders, policies, guidelines, and requirements as they relate to an INFRA grant, please see http://www.ops.fhwa.dot.gov/Freight/infrastructure/nsfhp/fy2016_gr_exhbt_c/index.htm.

As expressed in Executive Orders 13788 of April 18, 2017 and 13858 of January 31, 2019, it is the policy of the executive branch to maximize, consistent with law, the use of goods, products, and materials produced in the United States in the terms and conditions of Federal financial assistance awards. All INFRA projects are subject to the Buy America requirement at 23 U.S.C. 313. The Department expects all INFRA applicants to comply with that requirement without needing a waiver. To obtain a waiver, a recipient must be prepared to demonstrate how they will maximize the use of domestic goods, products, and materials in constructing their project.

The applicability of Federal requirements to a project may be affected by the scope of the NEPA reviews for that project. For example, under 23 U.S.C. 313(g), Buy America requirements apply to all contracts that are eligible for assistance under title 23, United States Code, and are carried out within the scope of the NEPA finding, determination, or decision regardless of the funding source of such contracts if at least one contract is funded with Title 23 funds.

In connection with any program or activity conducted with or benefiting from funds awarded under this notice, recipients of funds must comply with all applicable requirements of Federal law, including, without limitation, the Constitution of the United States; the conditions of performance, nondiscrimination requirements, and other assurances made applicable to the award of funds in accordance with regulations of the Department of Transportation; and applicable Federal financial assistance and contracting principles promulgated by the Office of Management and Budget. In complying with these requirements, recipients, in particular, must ensure that no concession agreements are denied or other contracting decisions made on the basis of speech or other activities protected by the First Amendment. If the Department determines that a recipient has failed to comply with applicable Federal requirements, the Department may terminate the award of funds and disallow previously incurred costs, requiring the recipient to reimburse any expended award funds.

INFRA projects involving vehicle acquisition must involve only vehicles that comply with applicable Federal Motor Vehicle Safety Standards and Federal Motor Vehicle Safety Regulations, or vehicles that are exempt from Federal Motor Carrier Safety Standards or Federal Motor Carrier Safety Regulations in a manner that allows for the legal acquisition and deployment of the vehicle or vehicles.

3. Reporting

a. Progress Reporting on Grant Activity

Each applicant selected for an INFRA grant must submit the Federal Financial Report (SF-425) on the financial condition of the project and the project's progress, as well as an Annual Budget Review and Program Plan to monitor the use of Federal funds and ensure accountability and financial transparency in the INFRA program.

b. Reporting of Matters Related to Integrity and Performance

If the total value of a selected applicant's currently active grants, cooperative agreements, and procurement contracts from all Federal awarding agencies exceeds $10,000,000 for any period of time during the period of performance of this Federal award, then the applicant during that period of time must maintain the currency of information reported to the System for Award Management (SAM) that is made available in the designated integrity and performance system (currently the Federal Awardee Performance and Integrity Information System (FAPIIS)) about civil, criminal, or administrative proceedings described in paragraph 2 of this award term and condition. This is a statutory requirement under section 872 of Public Law 110-417, as amended (41 U.S.C. 2313). As required by section 3010 of Public Law 111-212, all information posted in the designated integrity and performance system on or after April 15, 2011, except past performance reviews required for Federal procurement contracts, will be publicly available.

G. Federal Awarding Agency Contacts

For further information concerning this notice, please contact the Office of the Secretary via email at INFRAgrants@dot.gov. For other INFRA program questions, please contact Paul Baumer at (202) 366-1092. A TDD is available for individuals who are deaf or hard of hearing at 202-366-3993. In addition, up to the application deadline, the Department will post answers to common questions and requests for clarifications on USDOT's website at https://www.transportation.gov/buildamerica/INFRAgrants. To ensure applicants receive accurate information about eligibility or the program, the applicant is encouraged to contact USDOT directly, rather than through intermediaries or third parties, with questions. DOT staff may also conduct briefings on the BUILD Transportation grant selection and award process upon request.

H. Other Information

1. Protection of Confidential Business Information

All information submitted as part of, or in support of, any application shall use publicly available data or data that can be made public and methodologies that are accepted by industry practice and standards, to the extent possible. If the application includes information the applicant considers to be a trade secret or confidential commercial or financial information, the applicant should do the following: (1) Note on the front cover that the submission “Contains Confidential Business Information (CBI)”; (2) mark each affected page “CBI”; and (3) highlight or otherwise denote the CBI portions.

The Department protects such information from disclosure to the extent allowed under applicable law. In the event the Department receives a Freedom of Information Act (FOIA) request for the information, USDOT will follow the procedures described in its FOIA regulations at 49 CFR 7.17. Only information that is ultimately determined to be confidential under that procedure will be exempt from disclosure under FOIA.

2. Publication of Application Information

Following the completion of the selection process and announcement of awards, the Department intends to publish a list of all applications received along with the names of the applicant organizations and funding amounts requested. Except for the information properly marked as described in Section H.1., the Department may make application narratives publicly available or share application information within the Department or with other Federal agencies if the Department determines that sharing is relevant to the respective program's objectives.

3. Department Feedback on Applications

The Department strives to provide as much information as possible to assist applicants with the application process. The Department will not review applications in advance, but Department staff are available for technical questions and assistance. To efficiently use Department resources, the Department will prioritize interactions with applicants who have not already received a debrief on their FY 2019 INFRA application. Program staff will address questions to INFRAgrants@dot.gov throughout the application period.

Issued in Washington, DC, on January 13, 2020.
Elaine L. Chao,
Secretary of Transportation.

[FR Doc. 2020-00925 Filed 1-21-20; 8:45 am]

BILLING CODE 4910-9X-P